DEPARTMENT OF LABOR

Pension and Welfare Benefits Administration

[Prohibited Transaction Exemptions 2000-25, et al.; Application Nos. D-10119 and D-10120, et al.]

Grant of Individual Exemptions for Morgan Guaranty Trust Company of New York, et al.

AGENCY: Pension and Welfare Benefits Administration, Department of Labor (the Department).

ACTION: Notice of technical correction.

On June 1, 2000, the Department published in the Federal Register at 65 FR 35129 a notice of five individual exemptions in which the grant numbers were inadvertently omitted from the operative language. On page 35134, in the first paragraph under the heading “Exemption,” the individual Prohibited Transaction Exemptions (PTEs) should have been listed as follows: PTE 2000-25, Morgan Guaranty Trust Company of New York and J.P. Morgan Investment Management Inc.; PTE 2000-26, Goldman, Sachs & Co.; PTE 2000-27, The Chase Manhattan Bank; PTE 2000-28, Citigroup Inc.; and PTE 2000-29, Morgan Stanley Dean Witter & Co.

FOR FURTHER INFORMATION CONTACT: Ms. Andrea W. Selvaggio or Ms. Karin Weng of the Department, telephone (202) 219-8881. (This is not a toll-free number.)

Signed at Washington, D.C., this 20th day of June, 2000.
Ivan L. Strasfeld,
Director, Office of Exemption Determinations, Pension and Welfare Benefits Administration

[FR Doc. 00-16020 Filed 6-23-00; 8:45 am]

BILLING CODE 4510-29-P